DEPARTMENT OF THE TREASURY

Office of Foreign Assets Control

31 CFR Part 587

Publication of Russian Harmful Foreign Activities Sanctions Regulations Web General License 83A

AGENCY: Office of Foreign Assets Control, Treasury.

ACTION: Publication of web general license.

SUMMARY: The Department of the Treasury's Office of Foreign Assets Control (OFAC) is publishing one general license (GL) issued pursuant to the Russian Harmful Foreign Activities Sanctions Regulations: GL 83A, which was previously made available on OFAC's website.

DATES: GL 83A was issued on February 20, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On December 22, 2023, OFAC issued GL 83 to authorize certain transactions otherwise prohibited by the Russian Harmful Foreign Activities Sanctions Regulations, 31 CFR part 587. Subsequently, OFAC issued one further iteration of GL 83: on February 20, 2024, OFAC issued GL 83A, which superseded GL 83. Each GL was made available on OFAC's website (https://ofac.treasury.gov) when it was issued. The text of GL 83A is provided below.

OFFICE OF FOREIGN ASSETS CONTROL

Russian Harmful Foreign Activities Sanctions Regulations

31 CFR Part 587

GENERAL LICENSE NO. 83A

Authorizing Certain Transactions Related to Imports of Certain Categories of Fish, Seafood, and Preparations Thereof Prohibited by Executive Order 14068

(a) Except as provided in paragraph (b) of this general license, all transactions prohibited by the determination of December 22, 2023 made pursuant to section 1(a)(i)(B) of Executive Order (E.O.) 14068, as amended by E.O. 14114 (“Prohibitions Related to Imports of Certain Categories of Fish, Seafood, and Preparations Thereof”), that are ordinarily incident and necessary to the importation into the United States of seafood derivative products that were loaded onto a vessel at the port of loading prior to 12:01 a.m. eastern standard time on February 20, 2024, pursuant to written contracts or written agreements entered into prior to December 22, 2023, are authorized through 12:01 a.m. eastern daylight time, May 31, 2024.

(b) This general license does not authorize any transactions otherwise prohibited by the Russian Harmful Foreign Activities Sanctions Regulations, 31 CFR part 587 (RuHSR), including transactions involving any person blocked pursuant to the RuHSR, unless separately authorized.

(c) Effective February 20, 2024, General License No. 83, dated December 22, 2023, is replaced and superseded in its entirety by this General License No. 83A.

Bradley T. Smith,

Director, Office of Foreign Assets Control.

Dated: February 20, 2024.

Bradley T. Smith,
Director, Office of Foreign Assets Control.

[FR Doc. 2024-05989 Filed 3-20-24; 8:45 am]

BILLING CODE 4810-AL-P